NATIONAL SCIENCE FOUNDATION

Notice of Permit Applications Received Under the Antarctic Conservation Act of 1978

AGENCY: National Science Foundation

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 22, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas a requiring special protection. The regulations establish such a permit system to designate Antarctic Specially Protected Areas.

APPLICATION DETAILS:

1. Applicant

Brent S. Stewart, Ph.D., J.D., 3889 Creststone Place, San Diego, CA

Permit Application: 2016-010

Activity for Which Permit Is Requested

Take; Applicant desires to visit sites accessible by IAATTO registered tourist vessels and utilize a miniature (<1kg mass), multi-rotor (<20 cm rotor arm radius), remotely operated, battery powered (electric motor) UAS (Unmanned Aerial System) equipped with a small high resolution camera. The project will photo document Antarctic landscapes and the distribution and abundance of birds that occur at those sites. Bird species may include rockhopper, chinstrap, Adelie, and emperor penguins, and skuas, sheathbills, kelp gulls, and giant petrels, and birds may be roosting and/or breeding. “Take” would be unintended and unexpected incidental, brief, minor disturbance to 50 or less individual birds of each species (depending on the species, as noted in the application) during aerial vehicle flights at 25 to 60m in altitude, no further than 200m lateral distance away from the human operator, for no longer than 25 minutes in duration. The applicant has successfully deployed the equipment array over 75 times in various temperate, tropical and sub-polar environments, without wildlife disturbance.

Location

Various sites visited by IAATO registered vessels at Sub-Antarctic Islands, South Orkney Islands, South Shetland Islands, and the Antarctic Peninsula.

Dates

October 15, 2015-October 14, 2020

Nadene G. Kennedy,
Polar Coordination Specialist, Division of Polar Programs.

[FR Doc. 2015-23999 Filed 9-21-15; 8:45 am]

BILLING CODE 7555-01-P